DEPARTMENT OF COMMERCE

National Oceanic and Atmospheric Administration

External Advisory Panel for NOAA's Oceans and Human Health Initiative

AGENCY: National Ocean Service, National Oceanic and Atmospheric Administration (NOAA), Department of Commerce.

ACTION: Notice of Solicitation of Members for an External Advisory Panel for the NOAA Oceans and Human Health Initiative.

SUMMARY: This notice responds to the Oceans and Human Health Act of 2005, Public Law 108-447, which authorizes the Secretary of Commerce to establish an Oceans and Human Health Advisory Panel (the Panel). This Panel assists in the development and implementation of the NOAA Oceans and Human Health Initiative, as set forth in section 903(b) of the Oceans and Human Health Act. Nominations to the Panel are being solicited for a balanced representation of individuals with multi-disciplinary expertise in the marine and biomedical sciences. The Panel is not subject to the Federal Advisory Committee Act (5 U.S.C. App.).

DATES: Resumes should be sent to the address, e-mail, or fax specified and must be received by Monday, August 31, 2009.

ADDRESSES: Senior Science and Policy Analyst, Oceans and Human Health Initiative, National Ocean Service, NOAA, 331 Fort Johnson Road, Charleston, SC 29412-9110, fax: 843-762-8737, e-mail: Carolyn.Sotka@noaa.gov; cc: Juli.Trtanj@noaa.gov.

FOR FURTHER INFORMATION CONTACT: Carolyn Sotka, NOAA, Senior Science and Policy Analyst, National Ocean Service (NOS), NOAA, 331 Fort Johnson Road, Charleston, South Carolina 29412-9110; Telephone: 843-762-8944, Fax: 843-762-8737; e-mail: Carolyn.Sotka@noaa.gov.

SUPPLEMENTARY INFORMATION: The purpose of the Panel is to advise NOAA with regard to:

1. Development of overall vision, mission and goals for NOAA' s Oceans and Human Health Initiative;

2. Preparation and periodic updating of a NOAA's Oceans and Human Health Initiative Research Plan;

3. Communication, coordination and integration of Oceans and Human Health Initiative activities with other programs and partners, including but not limited to the National Science Foundation/National Institute of Environmental Health Sciences Centers of Oceans and Human Health, the Inter-Agency Task Force on Harmful Algal Blooms and Hypoxia, human health academic and medical communities, and state environmental, health and natural resource agencies;

4. Oceans and Human Health Initiative performance and progress;

5. Effectiveness of NOAA's education and outreach efforts; and

6. Such other matters as may be identified.

The Panel members shall not be employed by NOAA. Nominations should provide the nominee's contact information and describe their qualifications relative to the criteria given below, or include a resume. Anyone is eligible to nominate a panel member, and nominations from organizations and self-nominations are encouraged. The Panel is expected to have up to a maximum of 15 members, with a variety of backgrounds (recognizing that it will not be practical to have all backgrounds represented), with respect to:

1. Particularly relevant areas of marine and biomedical sciences, such as:

a. Conservation medicine, diseases of humans, diseases of marine organisms;

b. Epidemiology and human health sciences;

c. Harmful algal bloom impacts on public health;

d. Source tracking and environmental microbiology;

e. Marine pharmaceuticals and other natural products;

f. Marine organisms and habitats as models for biomedical research and/or indicators of environmental condition;

g. Pollutants, contaminants, and ecological chemistry;

h. Seafood safety;

i. Remote sensing, observing systems; and predictive models;

j. Ecosystem science and services;

k. Climate change and variability;

l. Genomics and proteomics;

m. Biomaterials, bioengineering, and other techniques for producing marine products, including chemical, aquaculture, and recombinant DNA;

n. Outreach and education; and

o. Social sciences relevant to human health.

2. Experience in academia, within mission-oriented government agencies, non governmental organizations, and the private sector;

3. Familiarity with NOAA's mandates; and

4. Being a science provider to key generic groups of stakeholders, science interpreter to groups of stakeholders, or stakeholder with a history of interaction with science providers.

The qualifications of individuals are expected to be outstanding with respect to one or more, but not necessarily all, of the criteria. Because of the limited size of the advisory panel, management organization expertise must include expertise directly related to ecosystem condition or human health or the very special features of science applied to government decision-making. The advisory panel members should have the following qualifications:

1. National and international recognition within their profession;

2. Knowledge of the scientific, technical, and biomedical information needed to support NOAA's Oceans and Human Health Initiative, coupled with broad familiarity with NOAA's mission;

3. Knowledge of, and experience with, the organization and management of complex, mission-oriented scientific and/or public health programs; and

4. Ability to represent views of academia, government agencies, nongovernmental organizations, or the private business sector.

This solicitation is to obtain candidate applications for 3 current vacancies on the Panel. Appointments to the advisory panel will be for two or three-year terms, renewable once and the panel is expected to meet twice yearly.

Dated: July 23, 2009.
William Corso,
Deputy Assistant Administrator for Ocean Services and Coastal Zone Management.

[FR Doc. E9-18184 Filed 7-29-09; 8:45 am]

BILLING CODE P